FEDERAL COMMUNICATIONS COMMISSION

47 CFR Part 73

[DA 02-2231, MB Docket No. 02-223, RM-10520]

Digital Television Broadcast Service; Avalon, CA

AGENCY: Federal Communications Commission.

ACTION: Final rule.

SUMMARY: The Commission, at the request of Pappas Southern California License, LLC., and pursuant to Section 531 of the Public Health, Security and Bioterrorism Preparedness and Reponse Act of 2002, allots DTV channel 47c at Avalon, California. DTV channel 47c can be allotted to Avalon at the coordinates 34-13-35 N. and 118-3-58 W.

With this action, this proceeding is terminated.

DATES: This document will become effective 60 days after concurrence of the Mexican government is obtained. The FCC will publish a document announcing when the concurrence has been obtained, and also give that effective date.

FOR FURTHER INFORMATION CONTACT: Joyce Bernstein, Media Bureau, (202) 418-1600.

SUPPLEMENTARY INFORMATION: This is a synopsis of the Commission's Report and Order, MB Docket No. 02-223, adopted September 10, 2002, and released September 17, 2002. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC 20554, telephone 202-863-2893, facsimile 202-863-2898, or via e-mail qualexint@aol.com.

List of Subjects in 47 CFR Part 73

Digital television broadcasting, Television.

Part 73 of Title 47 of the Code of Federal Regulations is amended as follows:

PART 73—[AMENDED]

1. The authority citation for Part 73 continues to read as follows:

Authority: 47 U.S.C. 154, 303, 334 and 336.

§ 73.622 [Amended]

2. Section 73.622(b), the Table of Allotments under California, is amended by adding Avalon, DTV channel 47c.

Federal Communications Commission.
Barbara A. Kreisman,
Chief, Video Division, Media Bureau.

[FR Doc. 02-29381 Filed 11-19-02; 8:45 am]

BILLING CODE 6712-01-P